OFFICE OF GOVERNMENT ETHICS

Agency Information Collection Activities; Submission for OMB Review; Proposed Collection; Comment Request for a Modified OGE Form 450 Executive Branch Confidential Financial Disclosure Report

AGENCY: Office of Government Ethics (OGE).

ACTION: Notice of request for agency and public comments.

SUMMARY: After publication of this second round notice, the Office of Government Ethics (OGE) plans to submit a modified OGE Form 450 Executive Branch Confidential Financial Disclosure Report to the Office of Management and Budget (OMB) for review and approval under the Paperwork Reduction Act of 1995.

DATES: Written comments by the public and the agencies on this proposed modification are invited and must be received by October 31, 2018.

ADDRESSES: You may submit comments on this paperwork notice to the Office of Management and Budget, Attn: Desk Officer for OGE, via fax at 202-395-6974 or email at OIRA_Submission@omb.eop.gov. (Include reference to “OGE Form 450 paperwork comment” in the subject line of the message.)

FOR FURTHER INFORMATION CONTACT: Sara Nekou at the U.S. Office of Government Ethics; telephone: 202-482-9229; TTY: 800-877-8339; FAX: 202-482-9237; Email: snekou@oge.gov. An electronic copy of the OGE Form 450 is available in the Forms Library section of OGE's website at http://www.oge.gov. A paper copy may also be obtained, without charge, by contacting Ms. Nekou.

SUPPLEMENTARY INFORMATION:

Title: Executive Branch Confidential Financial Disclosure Report.

Agency Form Number: OGE Form 450.

OMB Control Number: 3209-0006.

Type of Information Collection: Revision of a currently approved collection.

Type of Review Request: Regular.

Respondents: Prospective Government employees, including special Government employees, whose positions are designated for confidential disclosure filing and whose agencies require that they file new entrant confidential disclosure reports prior to assuming Government responsibilities.

Estimated Annual Number of Respondents: 24,640.

Estimated Time per Response: 3 hours.

Estimated Total Annual Burden: 73,920 hours.

Abstract: The OGE Form 450 collects information from covered department and agency employees as required under OGE's executive branch wide regulatory provisions in subpart I of 5 CFR part 2634. The basis for the OGE reporting regulation is section 201(d) of Executive Order 12674 of April 12, 1989 (as modified by Executive Order 12731 of October 17, 1990) and section 107(a) of the Ethics in Government Act, 5 U.S.C. app. sec. 107(a). OGE proposes several modifications to the form.

On October 5, 2016, OGE published a proposed rule for amending 5 CFR part 2634. See 81 FR 69204 (October 5, 2016). The final rule was published on July 18, 2018, and is effective on January 1, 2019. See 83 FR 33980 (July 18, 2018). The proposed modifications to the OGE Form 450 revise the instructions to reflect the changes to the financial disclosure regulation. Specifically, OGE proposes to change the reporting periods for each part completed by new entrants, change the income disclosure threshold to $1,000 of received income, eliminate the disclosure of diversified funds held within an employee benefit plan, clarify that the disclosure requirement for agreements and arrangements includes those with a current employer, eliminate the disclosure of continued participation in a defined contribution plan to which an employer is no longer making contributions, and combine gifts and travel reimbursement into a single category for purposes of applying the disclosure thresholds.

OGE is also proposing to update the Privacy Act statement in accordance with changes to the applicable system of records, update the examples provided on the last page of the form, and make other minor technical changes.

OGE published a first round notice of its intent to request paperwork clearance for a modified OGE Form 450 Executive Branch Confidential Financial Disclosure Report. See 83 FR 32123 (July 11, 2018). OGE received one response to that notice from a private citizen. The private citizen's response was unrelated to the notice and did not address the information collection.

Request for Comments: Agency and public comment is again invited specifically on the need for and practical utility of this information collection, the accuracy of OGE's burden estimate, the enhancement of quality, utility, and clarity of the information collected, and the minimization of burden (including the use of information technology). Comments received in response to this notice may be included with the OGE request for approval of the modified information collection. The comments will also become a matter of public record.

Approved: September 26, 2018.
Diana Veilleux,
Chief, Legal, External Affairs and Performance Branch, Office of Government Ethics.

[FR Doc. 2018-21275 Filed 9-28-18; 8:45 am]

BILLING CODE 6345-02-P